ENVIRONMENTAL PROTECTION AGENCY

[EPA-HQ-OPP-2009-0481; FRL-8429-8]

Proposed Stipulated Injunction Involving Pesticides and Eleven Species Listed as Threatened or Endangered Under the Endangered Species Act; Notice of Availability; Reopening of Comment Period

AGENCY: Environmental Protection Agency (EPA).

ACTION: Notice; reopening of comment period.

SUMMARY: EPA issued a notice in the Federal Register of July 1, 2009, announcing the availability of a proposed Stipulated Injunction that would establish a series of deadlines for the Agency to make “effects determinations” and initiate consultation, as appropriate, with the U.S. Fish and Wildlife Service for certain pesticides in regard to one or more of 11 species found in the greater San Francisco Bay area that are listed as endangered or threatened under the Endangered Species Act. The proposed Stipulated Injunction, if entered by the Court, would resolve a lawsuit brought against EPA by the Center for Biological Diversity in the United States District Court for the Northern District of California. The July 1, 2009 notice provided a 15-day comment period which closed on July 16, 2009. This document reopens the comment period for 30 days.

DATES: Comments, identified by docket identification (ID) number EPA-HQ-OPP-2009-0481, must be received on or before August 17, 2009.

ADDRESSES: Follow the detailed instructions as provided under ADDRESSES in the Federal Register document of July 1, 2009.

FOR FURTHER INFORMATION CONTACT: Arty Williams, Environmental Fate and Effects Division (7507P), Office of Pesticide Programs, Environmental Protection Agency, 1200 Pennsylvania Ave., NW., Washington, DC 20460-0001; telephone number: (703) 305-7695; e-mail address: williams.arty@epa.gov.

SUPPLEMENTARY INFORMATION: On July 1, 2009 (74 FR 31427) (FRL-8425-1), EPA issued a notice in the Federal Register opening a 15-day comment period on a proposed Stipulated Injunction. The proposed Stipulated Injunction if entered by the United States District Court for the Northern District of California, would resolve a lawsuit brought against EPA by the Center for Biological Diversity (Center for Biological Diversity v. EPA, No. C 07-02794 JCS (N.D.Cal.)).

The original comment period closed on July 16, 2009. However, based on comments received, EPA is reopening the comment period for 30 days to allow the public additional time to develop meaningful comments on the proposed Stipulated Injunction. Comments must be received on or before August 17, 2009.

To submit comments, or access the docket, please follow the detailed instructions as provided under ADDRESSES in the July 1, 2009 Federal Register document. If you have questions, consult the person listed under FOR FURTHER INFORMATION CONTACT.

List of Subjects

Environmental protection, Endangered species.

Dated: July 15, 2009.
Debra Edwards,
Director, Office of Pesticide Programs.

[FR Doc. E9-17396 Filed 7-17-09; 4:15 pm]

BILLING CODE 6560-50-S